DEPARTMENT OF COMMERCE

National Oceanic and Atmospheric Administration

Agency Information Collection Activities; Submission to the Office of Management and Budget (OMB) for Review and Approval; Comment Request; Non-Commercial Permit and Reporting Requirements in the Main Hawaiian Islands Bottomfish Fishery

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 24, 2020, during a 60-day comment period. This notice allows for an additional 30 days for public comments.

Agency: NOAA National Marine Fisheries Service.

Title: Non-commercial Permit and Reporting Requirements in the Main Hawaiian Islands Bottomfish Fishery.

OMB Control Number: 0648-0577.

Form Number(s): None.

Type of Request: Regular submission (extension of a currently approved collection).

Number of Respondents: 100.

Average Hours per Response: 15 minutes per permit application; 2 hours per appeal of denied permit; 20 minutes per logbook form.

Total Annual Burden Hours: 69.

Needs and Uses: Each boat-based non-commercial fisherman and vessel owner who fishes for bottomfish management unit and ecosystem component species in the federal waters of the main Hawaiian Islands must obtain a non-commercial bottomfish fishing permit from the NMFS or hold a State of Hawaii Commercial Marine License. Each permitted vessel owner or operator must submit a logsheet report after the conclusion of every fishing trip. The permit is required for all vessel owners, operators, and fishermen. The information from the permit and logsheet are used by NMFS, the Western Pacific Fishery Management Council, and federal enforcement agencies to monitor and manage the fishery.

Affected Public: Individuals or households; business or other for-profit organizations.

Frequency: As required.

Respondent's Obligation: Mandatory.

Legal Authority: 50 CFR 665.

This information collection request may be viewed at www.reginfo.gov. Follow the instructions to view the Department of Commerce collections currently under review by OMB.

Written comments and recommendations for the proposed information collection should be submitted within 30 days of the publication of this notice on the following website https://www.reginfo.gov/public/do/PRAMain. Find this particular information collection by selecting “Currently under Review—Open for Public Comments” or by using the search function and entering either the title of the collection or the OMB Control Number 0648-0577.

Sheleen Dumas,
Department PRA Clearance Officer, Office of the Chief Information Officer, Commerce Department.

[FR Doc. 2020-28174 Filed 12-21-20; 8:45 am]

BILLING CODE 3510-22-P